DEPARTMENT OF HOMELAND SECURITY

[DHS 2005-0011]

RIN 1650-AA01

United States Visitor and Immigrant Status Indicator Technology Program; Notice on Automatic Identification of Certain Nonimmigrants Exiting the United States at Select Land Border Ports-of-Entry

AGENCY: Border and Transportation Security Directorate, Department of Homeland Security.

ACTION: Notice with request for comments.

SUMMARY: The Department of Homeland Security has established the United States Visitor and Immigrant Status Indicator Technology Program, an integrated, automated entry-exit system that records the arrival and departure of aliens; verifies aliens' identities; and authenticates aliens' travel documents through comparison of biometric identifiers. On August 31, 2004, the Department of Homeland Security implemented the second phase of the United States Visitor and Immigrant Status Indicator Technology Program by publishing an interim rule in the Federal Register authorizing collection of biometric data from travelers upon admission at the 50 most highly trafficked land border ports-of-entry. This Notice informs the public of the further expansion of the second phase of the program by establishing a limited testing or proof of concept protocol for automatically documenting the exits and any subsequent re-entries of nonimmigrant travelers at five United States land border ports-of-entry crossings utilizing radio frequency identification (RFID) technology. The purpose of this testing is to determine if RFID technology can improve the efficiency of processing individuals who seek to enter or exit the United States at a land border port-of-entry. This program of testing will last approximately one year.

DATES: Effective Dates: This Notice is effective August 4, 2005. Written comments must be submitted on or before October 3, 2005.

ADDRESSES: You may submit comments identified by DHS-2005-0011 to the Docket Management Facility at the EPA. To avoid duplication, please use only one of the following methods:

• Web site: http://www.epa.gov/edocket. Follow the instructions for submitting comments at that Web site.

• Mail: Written comments may be submitted to Craig Howie, US-VISIT, Border and Transportation Security; Department of Homeland Security; 1616 North Fort Myer Drive, 18th Floor, Arlington, VA 22209.

Submitted comments may be inspected at 1616 North Ft. Myer Drive, Arlington, VA 22209 between 9 a.m. and 5 p.m., Monday through Friday except Federal holidays. Arrangements to inspect submitted comments should be made in advance by calling (202) 298-5200. You may also find this docket on the Internet at http://www.epa.gov/edocket.

FOR FURTHER INFORMATION, CONTACT: Craig Howie, Senior Regulatory Analyst, US-VISIT, Border and Transportation Security, Department of Homeland Security, 1616 Fort Myer Drive, 18th Floor, Arlington, Virginia 22209, (202) 298-5200.

Authority: 8 U.S.C. 1103, 1184, 1185, 1258, 1281, 1282, 1301-1306, E.O. 13323.

SUPPLEMENTARY INFORMATION:

I. Statutory Authority for US-VISIT

The Department of Homeland Security (DHS) established the United States Visitor and Immigrant Status Indicator Technology Program (US-VISIT) in accordance with several statutory mandates that collectively require DHS to create an integrated, automated entry and exit system (entry-exit system) that records the arrival and departure of aliens; verifies the identities of aliens at a land border port-of-entry; and authenticates travel documents presented by such aliens through the comparison of biometric identifiers at a land border port-of-entry. Aliens subject to US-VISIT may be required to provide finger scans, photographs, or other biometric identifiers upon arrival in, or departure from, the United States. DHS views US-VISIT as a biometric driven program designed to enhance the security of United States citizens, permanent residents, and visitors while expediting legitimate travel and trade, ensure the integrity of the immigration system, and protect visitors' personal information.

The statutes that authorize DHS to establish US-VISIT include, but are not limited to:

• Section 2(a) of the Immigration and Naturalization Service Data Management Improvement Act of 2000, Public Law 106-215, 114 Stat. 337 (June 15, 2000);

• Section 205 of the Visa Waiver Permanent Program Act of 2000, Public Law 106-396, 114 Stat. 1637, 1641 (Oct. 30, 2000);

• Section 414 of the Uniting and Strengthening America by Providing Appropriate Tools Required To Intercept and Obstruct Terrorism Act of 2001 (USA PATRIOT Act), Public Law 107-56, 115 Stat. 271, 353 (Oct. 26, 2001); and

• Section 302 of the Enhanced Border Security and Visa Entry Reform Act of 2002 (Border Security Act) Public Law 107-173, 116 Stat. 543, 552 (May 14, 2002).

DHS provided detailed abstracts of the particular sections of the statutes that established and authorized the US-VISIT program in two prior rulemakings. See 69 FR 468 (Jan. 5, 2004); 69 FR 53318 (Aug. 31, 2004).

In addition, on December 17, 2004, the Intelligence Reform and Terrorism Prevention Act of 2004 (IRPTA), Public Law 108-458, sec. 7208, 118 Stat. 3638, 3817 (Dec. 17, 2004), specifically addressed biometric entry and exit, and subsection (c) calls for the Secretary to accelerate the full implementation of the US-VISIT program. The proof of concept protocol described within this Notice assists DHS in accelerating the full implementation of US-VISIT.

II. Implementation of US-VISIT, Phases One and Two

On January 5, 2004, DHS published an interim rule in the Federal Register establishing US-VISIT at air and sea ports-of-entry designated by notice in the Federal Register. See 69 FR 468. Also on January 5, 2004, DHS published a notice in the Federal Register, 69 FR 482, designating 115 airports and 14 seaports for the collection of biometric data from certain nonimmigrant travelers upon arrival to the United States under the US-VISIT program. Since January 5, 2004, travelers applying for admission pursuant to a nonimmigrant visa at designated air and seaports have been required to submit finger scans and photographs.

The January 5, 2004, interim rule also provided for the Secretary to establish pilot programs at up to fifteen air or sea ports of entry, to be identified by notice in the Federal Register, through which DHS may require certain nonimmigrant travelers who depart from a designated air or sea port-of-entry to provide specified biometric identifiers and other evidence at the time of departure. See 8 CFR 215.8. On January 5, 2004, DHS published a notice in the Federal Register, 69 FR 482, identifying the implementation of exit pilot programs at Baltimore-Washington International Airport (BWI) and the Miami Seaport. DHS has also implemented exit pilot programs at an additional 13 ports of departure, as identified by Notice in the Federal Register on August 3, 2004. See 69 FR 46556.

On August 31, 2004, DHS regulations were amended to implement the second phase of US-VISIT by expanding the program to the 50 most highly trafficked land border ports-of-entry in the United States as directed under section 110 of the Illegal Immigration Reform and Immigrant Responsibility Act of 1996, Pub. L. 104-208, div. C, sec. 110, 110 Stat. 3009-558 (Sept. 30, 1006), as amended (8 U.S.C. 1365a(d)(2)). This interim rule also expanded the population of nonimmigrant aliens subject to US-VISIT biometric data collection. Biometric data collection at the time of entry for those nonimmigrants subject to US-VISIT was implemented at the 50 most highly trafficked United States land border ports-of-entry by December 31, 2004, and to nonimmigrants applying for admission to the United States under the provisions of the Visa Waiver Program. The list of the 50 most highly trafficked United States land border ports-of-entry was published in a Federal Register notice on November 9, 2004. See 69 FR 64964. This Notice also advised the public that DHS planned, via a future notice, to begin another pilot program on biometric data collection at the time of an alien's exit from the United States at select land border port-of-entry crossings. As has been noted in previously published DHS interim rules, staggering the implementation of US-VISIT, starting with a few initial locations, will enable DHS to test the system and identify areas where the process for collection of biometric information may be improved.

III. Automatic Identification at Exit and Subsequent Re-entry at United States Land Ports-of-Entry

A. Radio Frequency Identification Technology

The interim rule of August 31, 2004 amended the DHS regulations, 8 CFR 215.8(a)(1), to allow for the development of pilot programs that document when a nonimmigrant traveler exits from the United States at a designated land border port-of-entry. This Notice provides the public with information on how DHS plans to test exit and entry control through the use of passive radio frequency identification (RFID) technology at five United States land border locations.

RFID is a technology that is similar, in theory, to bar code identification. In both technologies, a tag is scanned to retrieve an identifying number that is used to find information contained in a database. An RFID tag contains an antenna and chip that stores data. The tag receives and responds to radio frequency queries from an RFID reader. There are a number of different types of RFID tags. Entirely passive tags use the energy from the radio frequency query to provide power to the chip on the tag and to reflect the information stored on the chip back to the reader. Because the reader's energy is used in this way there is limited power available to store the information and retrieve during a read. Accordingly, the amount of information stored is limited to an identifying number. At the other end of the spectrum, some active RFID tags can affirmatively transmit radio signals containing substantive information contained in the tag to any reader that has the capability of reading the tag.

Passive RFID tags do not have their own power supply. In passive RFID technology, the incoming radio frequency provides all of the power for the tag to send a response. The response of a passive RFID tag is necessarily brief: typically just a unique identification number. Passive tags have limited read ranges, reader power levels and local factors. Based on these variables, reliable reads can be received from a few inches to as much as 30 feet away from the reader. Longer reads are impractical with passive tags.

In contrast, active RFID tags must have a power source and have larger memories than passive tags. An active RFID tag may store a substantial amount of substantive information that may be transmitted to any reader with the capability of reading the tag. Active tags are used, for example, by many States to automatically collect tolls on highways, such as EZ-PASS, and these devices generate an identifying signal to a receiver at a toll plaza.

The RFID tags that will be tested by US-VISIT under this Notice are passive and will contain only the unique identification number from the tag embedded in the U.S. Citizenship and Immigration Services (USCIS) forms which usually are issued by Bureau of Customs and Border Protection (CBP) agents to nonimmigrant aliens upon entry into the United States. Upon arrival into the United States at a land border port-of-entry, a CBP agent will provide a nonimmigrant traveler with a USCIS Form I-94 (white), Arrival/Departure Record, or Form I-94W (green), Nonimmigrant Visa Waiver Arrival/Departure Form. These forms ask for basic identification information and the address where the traveler will stay while in the United States. The Form I-94W is issued to nonimmigrant travelers admitted to the United States under the provisions of the Visa Waiver Program.

The chip that will be imbedded in the USCIS forms at identified land border ports-of-entry participating in the test will not contain any information about the individual traveler. The chip will contain only a unique identifier for the specific Form I-94. This program will test the optimal distance at which the tag can be read during the traveler's exit and any subsequent re-entry and the tag's effectiveness and accuracy. For example, when a traveler leaves the United States from one of the identified land border ports-of-entry, either on foot or in a vehicle, the traveler's tag will be read and documented when the traveler passes through a specially designed gantry on which hang RFID antennas. If this traveler has a multiple entry I-94 and subsequently applies for re-admission, the RFID tag will be read as the traveler approaches the port-of-entry, again either on foot or in a vehicle. At that point, the US-VISIT computer systems will call up the associated information about the traveler more quickly and that information will be available when the traveler presents the multiple-entry Form I-94 before the inspecting officer. As noted above, the Form I-94 chip will contain no information about the individual, other than a unique number that has no meaning except to US-VISIT computer systems that are being operated by DHS.

DHS, through CBP, has utilized radio frequency technology for many years in several dedicated commuter lane programs at United States land border ports-of-entry—in particular the Secure Electronic Network for Travelers Rapid Inspection (SENTRI) program along the southern border with Mexico and the dedicated commuter lane system (NEXUS) along the northern border with Canada. This Notice does not eliminate or replace any of the currently used dedicated commuter lane programs at United States land border ports-of-entry, or programs designed to assist the flow of international commercial cargo, such as the Automated Commercial Environment (ACE) program.

B. Radio Frequency Technology for Automatic Identification

As noted above, DHS, through CBP, has utilized RFID technology for many years in several dedicated commuter lane programs at United States land border ports-of-entry. Taking this concept one step further, DHS plans to test the use of RFID technology to match data gathered at the time of entry and exit at certain proof of concept ports of entry with a traveler's biographic and/or biometric information that was collected when the traveler was initially admitted to the United States at a proof of concept land border port-of-entry and issued Form I-94 or I-94W.

As noted above, DHS, through CBP, has utilized RFID technology for many years in several dedicated commuter lane programs at United States land border ports-of-entry. Taking this concept one step further, DHS plans to test using RFID technology in the following way: matching the biographic and/or biometric data collected when a traveler is initially admitted to the United States at a proof of concept land border port-of-entry and issued Form I-94 or I-94W with the data collected, by way of RFID technology, at the time of the traveler's exit and if applicable re-entry at a land border proof of concept port-of-entry.

For this proof of concept, DHS plans to embed an RFID tag into the paper stock of the Form I-94 and plans to use RFID passive tags. The tag will be powered by the radio frequencies transmitted by transceivers that will be mounted at both vehicular and pedestrian exit lanes at select land border ports-of-entry. When travelers either drive or walk through the port-of-entry to leave the United States, the transceivers will send out a harmless radio wave frequency that will power the DHS-issued RFID tag to transmit back a unique identifier code number. This code number, when received by the transceivers, will be relayed back to secure DHS computer systems and matched with the biographic and/or biometric data of the traveler. DHS will be able to automatically identify and document the exits and, if applicable, the subsequent re-entry of select travelers at the United States land border ports-of-entry identified in the proof of concept protocol.

C. RFID-Embedded Form I-94 Issuance and US-VISIT Enrollment Process

For purposes of automatic identification, all nonimmigrant travelers issued a Form I-94 or Form I-94W at a proof of concept United States land border port-of-entry will be issued a Form I-94 or Form I-94W that has an RFID tag embedded in the paper stock. DHS will issue an RFID-embedded Form I-94 to all applicable travelers because such travelers are required under the current US-VISIT program to comply with the biographic data collection requirements of the admission and exit process, regardless of whether the traveler has had his or her biometrics collected and thereby enrolled in the US-VISIT program. This is an important distinction. A traveler exempt from US-VISIT enrollment is not screened using biometrics, but is screened using biographic information, including entry and exit information, that is maintained on the traveler in various DHS databases. An automatic identification tag embedded in the Form I-94 or Form I-94W issued to a traveler exempt from US-VISIT will not read back against any biometric-driven database maintained by DHS, but will “point” to the biographic information within DHS databases. Issuing automatic identification tags to all nonimmigrant travelers issued a Form I-94 or Form I-94W at a proof of concept location is an important part of the DHS comprehensive approach to managing our land borders because it will provide DHS, for the first time, with information that will accurately document the traveler's exit from the United States at a land border port-of-entry.

DHS will continue to enroll into US-VISIT at United States land border ports-of-entry those travelers issued Form I-94 or Form I-94W at the time of admission and who are not otherwise exempt from the biometric collection requirements. Those travelers who are otherwise exempt from US-VISIT enrollment, even if issued a Form I-94 or Form I-94W at a land border port-of-entry, will continue to be exempt from US-VISIT biometric enrollment. See 8 CFR 235.1(d)(1)(iv)(A)-(D) (nonimmigrant aliens for which the biometric enrollment requirements of the US-VISIT program do not apply). This means that Canadian citizens not requiring a Form I-94 (the majority of Canadians crossing the border at land ports-of-entry) and Mexican citizens admitted to the United States with a B-1/B-2 Visa and Border Crossing Card (BCC)—and whose intent is to abide by the requirement that they exit within 30 days or less and the travel limitation of staying within 25 miles of the border (75 miles within parts of the state of Arizona)—will not be enrolled in US-VISIT or be issued an automatic ID tag at the time of admission. In addition, travelers must note that the unique automatic identification tag that will be issued is not a replacement for either a valid passport or valid nonimmigrant visa if either of these documents is required at the time of application for admission to the United States.

Only those travelers issued Form I-94 or Form I-94W at United States land border ports-of-entry proof of concept locations will receive an automatic identification tag and, unless otherwise exempt, be enrolled in the US-VISIT program. Since a nonimmigrant traveler needing a Form I-94 at a land border port-of-entry is directed to the CBP secondary inspection area, CBP officers will collect biometrics from these travelers at the time of admission and issue the traveler an RFID-embedded Form I-94. At the time of issuance, the RFID tag will be activated and the unique code number embedded on the tag will be automatically linked to the traveler's biographic and/or biometric information that is stored in DHS databases. This procedure should prove to be only a modest change of the current process for issuing Form I-94 or Form I-94W for these select nonimmigrant travelers. Nothing in this Notice expands the classes of nonimmigrant travelers who are required issuance of a Form I-94 or Form I-94W, and DHS is not increasing the fee for Form I-94 or Form I-94W issuance.

D. Using the RFID Tag at Exit and Subsequent Admissions

After a CBP officer has issued an RFID-enabled Form I-94 or Form I-94W, travelers will need to keep the document in their possession as they would a regular Form I-94 (see section 264(e) of the Immigration and Nationality Act (the Act), 8 U.S.C. 1304(e)), and especially if they plan to exit the United States from one of the proof of concept ports-of-entry. When exiting the United States at one of the proof of concept ports-of-entry, the test will examine if the RFID-enabled Form I-94 can be read automatically, regardless of whether the traveler is on foot or in a vehicle. While initial testing of the reading capabilities of the RFID tags has shown a high read rate with little to no action required by the traveler, DHS will advise travelers of any actions they may need to take in order to guarantee that the RFID-enabled Form I-94 is read automatically. For example, it may be necessary for persons traveling in a private vehicle to place the Form I-94s on the seat next to them while exiting the United States. DHS will issue guidance and instructions to all travelers issued an automatic identification tag as part of the Form I-94 issuance process, as well conduct an educational campaign in the border regions affected by the testing.

Travelers issued multiple entry Form I-94s at United States land border proof of concept ports-of-entry will be able to use these documents at the time of a subsequent application for re-entry into the United States. By reading the RFID tag at the time of re-entry, the CBP officer will be able to automatically access the traveler's previously collected biographic and biometric (unless exempt) information. In this way, the pre-positioning of previously collected information is similar to the operation of the current CBP NEXUS and SENTRI systems. DHS is testing whether the ability to read the RFID tag and call up the previously collected information immediately prior to presentation of the Form I-94 to the CBP officer will improve processing times for admission in primary inspection.

DHS notes that exception scenarios will be built into the proof of concept process. It is inevitable that some automatic identification tags will become lost, damaged, or will simply not work for whatever technical reason. For example, some travelers, at the time of exit, may be in possession of an automatic identification tag issued to another alien, such as a person mistakenly having in his or her possession the I-94 of their spouse. Such situations will undoubtedly take place and US-VISIT and CBP will build into the standard operating procedures processes that will address exception scenarios such as those just described.

In order to improve the ability of DHS to monitor overstays of authorized periods of admission, DHS anticipates that issuing to travelers RFID-enabled Forms I-94 or Forms I-94W will permit DHS to have the data associated with the automatic identification tags automatically checked against a number of databases, including various lookout systems. Such checks will be performed automatically and remotely by way of the automatic identification tag being read at the time of exit or subsequent re-entry (for those aliens with multiple entry Form I-94 documents). Any noted overstay of an authorized period of admission detected by the automatic identification capabilities at the time of a traveler's exit from the United States will require the traveler to be processed through secondary inspection for questioning if the traveler makes a subsequent application for admission.

E. Traveler Responsibilities

As DHS noted in the preamble to the interim rule published in the Federal Register on August 31, 2004, US-VISIT continues to inform the public of their responsibility to comply with all United States entry and exit requirements. See 69 FR 53326. DHS and the Department of State (DOS) will review all evidence surrounding any prior travel to, and departure from, the United States to determine whether a traveler has complied with the terms of his or her admission. At the time a traveler subsequently applies for a visa or admission, information from US-VISIT, including departure information derived from the proofs of concept outlined in this Notice, will be one factor relied upon by consular and CBP officers when determining whether the traveler complied with the terms of his or her prior admission, and whether the traveler should be granted a visa or be admitted.

To that end, DHS reminds travelers of their responsibility to maintain in their personal possession any RFID-enabled Form I-94 or Form I-94W while in and when exiting the United States. See section 264(e) of the Act, 8 U.S.C. 1304(e). Using a multiple entry RFID-enabled Form I-94 or Form I-94W when applying for a subsequent admission at a proof of concept United States land border port-of-entry may facilitate admission. See 8 CFR 235.1(f). Travelers should also note that any willful attempt to tamper with or deactivate an automatic identification tag or to willfully and knowingly engage in practices such as, but not limited to, transporting another traveler's tag across the United States border at a proof of concept port-of-entry could render the traveler inadmissible under the fraud and misrepresentation provisions of section 212(a)(6)(C) of the Act, 8 U.S.C. 1182(a)(6)(C), and liable for criminal prosecution.

F. Impact on International Land Borders

DHS wishes to stress the importance the Department is placing on maintaining the free flow of individuals and goods across our shared international land borders. To not do so would erase decades of work on improving the flow of individuals and goods between the United States, Canada and Mexico. DHS intends to use strategies for automated exit and re-entry that will work to foster both a safer and more secure border without compromising our unique border relationships with Canada and Mexico. To this end, DHS, in partnership with DOS, plans to work with the governments of Canada and Mexico to further refine the use of radio frequency technology along the land borders and to possibly explore alternative methods for documenting the exits and entries of individuals crossing the land borders between our respective countries.

G. Public Privacy Interests

DHS fully realizes that individuals may be concerned about the use of RFID technology and personal privacy. Under the DHS plan, no personal information will be included or encoded on the RFID tags that are embedded in the Form I-94 and Form I-94W and issued to travelers crossing the border. The RFID tags will only contain an embedded serial number that has no intrinsic relationship to the individual traveler. Only the DHS computers and databases will be able to link the embedded serial number to the traveler's biographic and biometric information when activated at the time of an exit or subsequent application for admission to the United States. This biographic and biometric information is separately stored in secure databases used by the US-VISIT and CBP programs in order to determine admissibility to the United States and for other enforcement purposes. Even if an individual has the capability to read a tag using an unauthorized scanning device, the only information gained would be a meaningless series of digits, not any biographic or biometric information.

Another privacy-related issue is whether the ability exists to track a person's movements within the United States by way of the radio frequency tag issued at the time of admission. It will not be possible to track the whereabouts of a person in the United States because DHS is using non-battery powered passive tags. The tags themselves can only be activated by the radio wave sensors used at one of the proof of concept land ports-of-entry and within the port of entry. Passive radio frequency tags should not be confused with Global Positioning System (GPS) devices—including cellular phones with GPS capability—that rely on different technology than that used by radio frequency devices. US-VISIT does not use global positioning technology.

As discussed in the January 5 and August 31, 2004 interim rules, US-VISIT records will be protected consistent with all applicable privacy laws and regulations. Personal information will be kept secure and confidential and will not be discussed with, nor disclosed to, any person within or outside US-VISIT other than as authorized by law and as required for the performance of official duties. In addition, careful safeguards, including appropriate security controls, will ensure that the data is not used or accessed improperly. The Department's Chief Privacy Officer continues to review pertinent aspects of the program to ensure that proper safeguards and security controls remain in place.

Personal information will be protected in accordance with the DHS' published privacy policy for US-VISIT. See 69 FR 2608 (Jan. 16, 2004) (appended to privacy impact assessment). US-VISIT has implemented a process to facilitate the amendment or correction by individuals of data that are not accurate, relevant, timely, or complete. The full US-VISIT redress policy, including request form, is available at http://www.dhs.gov/us-visit. The DHS Privacy Office continues to exercise oversight of US-VISIT to ensure that the information collected and stored in IDENT and other systems associated with US-VISIT is being properly protected under the privacy laws and guidance. US-VISIT also has a program-dedicated Privacy Officer to handle specific inquiries and to provide additional oversight of the program. A full Privacy Impact Assessment was published in the Federal Register on July 7, 2005, at 70 FR 39300.

Finally, DHS will continue to maintain secure computer systems that will ensure that the confidentiality of an individual's personal information is maintained. In doing so, DHS and its information technology personnel will comply with all laws and regulations applicable to government systems, such as the Federal Information Security Management Act of 2002, Title X, Public Law 107-296, 116 Stat. 2259-2273 (November 25, 2002) (codified in scattered sections of titles 6, 10, 15, 40, and 44 U.S.C.); Information Management Technology Reform Act (Clinger-Cohen Act), 40 U.S.C. 11101 et seq.); Computer Security Act of 1987, 40 U.S.C. 1441 et seq. (as amended); Government Paperwork Elimination Act, 44 U.S.C. 101, 3504; and Electronic Freedom of Information Act of 1996, 5 U.S.C. 552.

Persons with further questions about how the US-VISIT program is applying the Privacy Act to enrollees may contact the US-VISIT Privacy Officer, Mr. Steve Yonkers, by the following means: by mail—US-VISIT Privacy Officer, Border and Transportation Security, Department of Homeland Security, 245 Murray Lane, SW., Washington, DC 20538; by telephone at (202) 298-5200 (not a toll-free number); or by e-mail at USVISITPRIVACY@dhs.gov.

H. Schedule and Locations of Proof of Concept

DHS will begin issuing RFID embedded Forms I-94 or Forms I-94W on or around August 4, 2005, at the following land border ports-of-entry crossing locations: Pacific Highway, Washington, Peace Arch, Washington, Alexandria Bay, New York, Nogales East, Arizona, Mariposa-Nogales West, Arizona.

As already noted, DHS will conduct outreach in each of the above-noted locations. This outreach will provide those travelers issued an automatic identification or RFID tag, and especially those whose biometrics are collected at any of the above noted crossing locations, complete information on the proof of concept being conducted, on the RFID-enabled Form I-94 or Form I-94W that will be issued to travelers, and whether there will be the need for travelers to take any type of affirmative action to make sure that the automatic identification tag is read when the traveler next exits the United States at a proof of concept crossing location. This RFID test program will continue for approximately one year.

I. Proof of Concept Evaluation

DHS notes that none of the radio frequency technology protocols outlined in this preamble will be installed at the busiest land border ports-of-entry until the proof of concept programs are implemented during the late summer and fall of 2005 and evaluated for accuracy and effectiveness. While DHS has experience with using radio frequency technology, the proof of concept will be the first instance where DHS is attempting to automatically document the exits of select nonimmigrant travelers at land border ports-of-entry. DHS will also be working with technical experts to determine if any new technologies—technologies other than those based on radio frequency—are able to match or better the results DHS expects to receive during the proof of concept.

DHS anticipates that the automatic identification proof of concept will continue for approximately one year. This time period will allow DHS to concurrently analyze the results of the proof of concept being conducted at the above noted locations. Due to the significant cost associated with implementing exit control at all United States land border port-of-entry crossings, a full and comprehensive analysis of the proof of concept testing must be undertaken prior to any nationwide installation of radio frequency technology equipment. The results of this analysis will be closely examined to see if radio frequency-based technology does have the ability to increase the efficiency and accuracy of documenting the exit and any subsequent reentry of travelers at land border ports-of-entry. A staggered, incremental installation approach is consistent with the overall strategy of the US-VISIT program.

IV. Solicitation of Public Comment

As noted in previously published US-VISIT rulemaking actions, DHS places a great deal of importance on input from the public on the performance and implementation of the US-VISIT program. While DHS is not under the obligation to solicit public comments in response to this Notice, DHS is interested in whether the public has any suggestions for automated methods to document the exit of travelers from the United States other than those identified in this Notice. Accordingly, DHS is soliciting comments from the public on all aspects of the issues outlined in this Notice.

The comment filing process will use the standard procedure and instructions for filing are included at the beginning of this Notice. The comment period will be open until October 3, 2005.

Dated: August 1, 2005.
Michael Chertoff,
Secretary of Homeland Security.

[FR Doc. 05-15487 Filed 8-3-05; 8:45 am]

BILLING CODE 4410-10-P